DEPARTMENT OF HEALTH AND HUMAN SERVICES

Centers for Disease Control and Prevention (CDC)

Disease, Disability, and Injury Prevention and Control Special Emphasis Panel (SEP): Grants for Injury Control Research Centers (Panel 2), Funding Opportunity Announcement (FOA) CE12-001, Initial Review

In accordance with Section 10(a)(2) of the Federal Advisory Committee Act (Pub. L. 92-463), the Centers for Disease Control and Prevention (CDC) announces the aforementioned SEP:

Time and Date: 8:30 a.m.-5 p.m., February 21-22, 2012 (Closed).

Place: Crowne Plaza Atlanta Perimeter Hotel at Ravinia, 4355 Ashford Dunwoody Road, Atlanta, Georgia 30346 Telephone: (770) 395-7700.

Status: The meeting will be closed to the public in accordance with provisions set forth in Section 552b(c)(4) and (6), Title 5 U.S.C., and the Determination of the Director, Management Analysis and Services Office, CDC, pursuant to Public Law 92-463.

Matters To Be Discussed: The meeting will include the initial review, discussion, and evaluation of applications received in response to “Grants for Injury Control Research Centers, Panel 2, FOA CE12-001”.

Contact Person for More Information: Jane Suen, Dr. P.H., M.S., Scientific Review Officer, CDC, 4770 Buford Highway, NE., Mailstop F63, Atlanta, Georgia 30341-3724, Telephone (770) 488-4281.

The Director, Management Analysis and Services Office, has been delegated the authority to sign Federal Register notices pertaining to announcements of meetings and other committee management activities, for both the Centers for Disease Control and Prevention and the Agency for Toxic Substances and Disease Registry.

Dated: January 11, 2012.
Elaine L. Baker,
Director, Management Analysis and Services Office, Centers for Disease Control and Prevention.

[FR Doc. 2012-832 Filed 1-17-12; 8:45 am]

BILLING CODE 4163-18-P